NUCLEAR REGULATORY COMMISSION

[Docket Nos. 50-352, 50-353, 50-171, 50-277, 50-278, 50-272, 50-311]

Peco Energy Company, Limerick Generating Station, Units 1 and 2; Peach Bottom Atomic Power Station, Unit Nos. 1, 2, and 3; Salem Nuclear Generating Station, Unit Nos. 1 and 2; Correction to Notice of Consideration of Approval of Application Regarding Proposed Corporate Restructuring and Opportunity for a Hearing

On August 31, 2000, the Federal Register published a notice of consideration of issuance of an order under 10 CFR 50.80 approving the indirect transfer of Facility Operating Licenses Nos. NPF-39 and NPF-85 for Limerick Generating Station, Units 1 and 2; DPR-12, DPR-44, and DPR-56 for Peach Bottom Atomic Power Station, Unit Nos. 1, 2, and 3; and DPR-70 and DPR-75 for Salem Nuclear Generating Station, Unit Nos. 1 and 2. On pages 53046, column 1; 53045, column 1; and 53047, column 1, the following sentence is corrected to read: “By September 20, 2000, any person whose interest may be affected by the Commission's action on the application may request a hearing and, if not the applicant, may petition for leave to intervene in a hearing proceeding on the Commission's action.”

Dated at Rockville, Maryland, this 8th day of September 2000.
For the Nuclear Regulatory Commission.
Donna M. Skay,
Project Manager, Section 2, Project Directorate III, Division of Licensing Project Management, Office of Nuclear Reactor Regulation.

[FR Doc. 00-23606 Filed 9-13-00; 8:45 am]

BILLING CODE 7590-01-P